ELECTION ASSISTANCE COMMISSION

Sunshine Act Notice

AGENCY: United States Election Assistance Commission (EAC).

ACTION: Notice of Virtual Public Forum for EAC Board of Advisors.

Date and time: Monday, April 21, 2008, 9 a.m. EDT through Friday, April 25, 2008, 5 p.m. EDT.

Place: EAC Board of Advisors Virtual Meeting Room at http://www.eac.gov. Once at the main page of EAC's Web site, viewers should click the link to the Board of Advisors Virtual Meeting Room. The virtual meeting room will open on Monday, April 21, 2008, at 9 a.m. EDT and will close on Friday, April 25, 2008, at 5 p.m. EDT. The site will be available 24 hours per day during that 5-day period.

Purpose: The EAC Board of Advisors will review and provide comment on eight draft chapters of the Election Management Guidelines. The draft chapters contain recommendations and best practices regarding: Absentee voting and vote by mail; acceptance testing; ballot building; contingency planning and change management; developing an audit trail; polling place and vote center management; pre-election and parallel testing; and uniformed and overseas voters.

The EAC Board of Advisors Virtual Meeting Room was established to enable the Board of Advisors to conduct business in an efficient manner in a public forum, including being able to review and discuss draft documents, when it is not feasible for an in-person board meeting. The Board of Advisors will not take any votes or propose any resolutions during the 5-day forum of April 21-25, 2008. Members will post comments about the eight draft chapters of the Election Management Guidelines.

This activity is open to the public. The public may view the proceedings of this special forum by visiting the EAC Board of Advisors Virtual Meeting Room at http://www.eac.gov at any time between Monday, April 21, 2008, 9 a.m. EDT and Friday, April 25, 2008, 6 p.m. EDT. The public also may view the draft chapters of the Election Management Guidelines, which will be posted on EAC's Web site beginning April 21, 2008. The public may file written statements to the EAC Board of Advisors at boardofadvisors@eac.gov. Data on EAC's Web site is accessible to visitors with disabilities and meets the requirements of section 508 of the Rehabilitation Act.

Person to Contact for Information: Bryan Whitener, Telephone: (202) 566-3100.

Gracia M. Hillman,
Commissioner, U.S. Election Assistance Commission.

[FR Doc. E8-7149 Filed 4-7-08; 8:45 am]

BILLING CODE 6820-KF-M